FEDERAL COMMUNICATIONS COMMISSION

47 CFR Part 73

[FCC 08-205; MB Docket No. 04-219; RM-10986]

Radio Broadcasting Services; Evergreen, AL and Shalimar, FL

AGENCY: Federal Communications Commission.

ACTION: Final rule; denial.

SUMMARY: This document denies an Application for Review filed by Qantum of Fort Walton Beach License Company, LLC directed to the Memorandum Opinion and Order in this proceeding. With this action, the proceeding is terminated.

DATES: Effective November 20, 2008.

FOR FURTHER INFORMATION CONTACT: Robert Hayne, Media Bureau, (202) 418-2177.

SUPPLEMENTARY INFORMATION: This is a synopsis of the Memorandum Opinion and Order in MB Docket No. 04-219, adopted September 5, 2008, and released October 31, 2008. The full text of this decision is available for inspection and copying during normal business hours in the FCC Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. The Commission will not send a copy of this Memorandum Opinion and Order pursuant to the Congressional Review Act, see 5 U.S.C. 801(a)(1)(A), because the adopted rules are rules of particular applicability. This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

List of Subjects in 47 CFR Part 73

Radio, Radio broadcasting.

Federal Communications Commission.
Marlene H. Dortch,
Secretary.

[FR Doc. E8-27665 Filed 11-19-08; 8:45 am]

BILLING CODE 6712-01-P